DEPARTMENT OF THE INTERIOR

National Park Service

Great Sand Dunes National Park Advisory Council Meeting

AGENCY: National Park Service, DOI.

ACTION: Announcement of meeting.

SUMMARY: Great Sand Dunes National Monument and Preserve announces a meeting of the Great Sand Dunes National Park Advisory Council, which was established to provide guidance to the Secretary on long-term planning for Great Sand Dunes National Park and Preserve.

DATES: The meeting date is: 1. April 5-7, 2004, 9 a.m.-4:30 p.m., Alamosa, Colorado.

ADDRESSES: The meeting location is: 1. Alamosa, Colorado—Alamosa County Courthouse, 702 4th St., Alamosa, CO 81101.

FOR FURTHER INFORMATION CONTACT: Steve Chaney, 719-378-6300.

SUPPLEMENTARY INFORMATION: At this meeting, the Advisory Council will develop goals for the General Management Plan and draft alternative concepts to accomplish these goals. Public comment will be solicited on April 5 from 4:30-5:30 p.m.

Hal Grovert,
Acting Regional Director.

[FR Doc. 04-5936 Filed 3-16-04; 8:45 am]

BILLING CODE 4312-CL-P